DEPARTMENT OF THE INTERIOR

Bureau of Indian Affairs

[190A2100DD/AAKC001030/A0A501010.999900 253G]

Proclaiming Certain Lands as Reservation for the Skokomish Indian Tribe of Washington

AGENCY: Bureau of Indian Affairs, Interior.

ACTION: Notice of reservation proclamation.

SUMMARY: This notice informs the public that the Assistant Secretary—Indian Affairs proclaimed approximately 581.96 acres, more or less, an addition to the reservation of the Skokomish Indian Tribe of Washington on October 12, 2018.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 5110) for the lands described below. The land was proclaimed to be part of the Skokomish Indian Tribe Reservation, in Mason County, Washington.

Skokomish Indian Tribe Reservation

Two Parcels—Williamette Meridian

Mason County, Washington—Legal Description Containing 581.96 Acres, More or Less

Stohr Property, 157-T-1203

The Southwest quarter (SW ¼) of the Southeast quarter (SE ¼), and the Southeast quarter (SE ¼) of the Southwest quarter (SW ¼) all in Section twenty-seven (27), Township twenty-two (22), Range four (4) West, W.M.

Parcel Numbers 42227 34 00000 and 42227 43 00000

Situate in Mason County, Washington.

Containing 80.96 acres, more or less.

Skokomish Park at Lake Cushman, 157-T-1219

Parcel 1: All that portions of Government Lot one (1) and the Northeast quarter (NE ¼), all in Section nineteen (19), Township twenty-three (23) North, Range four (4) West, W.M., which lie above the 742 foot contour line (City of Tacoma Cushman project datum). For reference purposes, U.S.G.S. benchmark “J-32 (1929)” in the top of Cushman Dam No. 1 equals elevation 741.50 feet.

EXCEPTING therefrom all those portions thereof, if any, “to which Lake Cushman Company has granted a leasehold estate interest, whether recorded with the Office of the Mason County Auditor or not,” as set forth in instrument recorded December 28, 1990, Auditor's File No. 520415.

Parcel No. 42319 10 00000.

Parcel 2: All those portions of: The Southwest quarter (SW ¼) of the Northwest quarter (NW ¼), the Southeast quarter (SE ¼) of the Northwest quarter (NW ¼), the Northeast quarter (NE ¼), the Northeast quarter (NE ¼) of the Southeast quarter (SE ¼), the Southwest quarter (SW ¼) of the Southeast quarter (SE ¼), the Northwest quarter (NW ¼) of the Southeast quarter (SE ¼), and the Southwest quarter (SW ¼), all in Section twenty (20);

And, the Northwest quarter (NW ¼) of the Northeast quarter (NE ¼) of Section twenty-nine (29),

All in Township twenty-three (23) North, Range four (4) West, W.M., which lie above the 742 foot contour line (City of Tacoma Cushman project datum). For reference purposes, U.S.G.S. benchmark “J-32 (1929)” in the top of Cushman Dam No. 1 equals elevation 741.50 feet.

EXCEPTING from all of the foregoing, right-of-way for State Route 119;

ALSO, EXCEPTING from the Northwest quarter (NW ¼) of the Northeast quarter (NE ¼) of said Section twenty-nine (29), all that portion thereof lying Westerly of the Westerly right-of-way line of said State Route 119, and Southerly of the Northerly line of the Lake Cushman Company Community Park Tract described as Parcel No. 49 of Exhibit A of Amendment to Lease recorded December 28, 1990, Auditor's File No. 520415, records of Mason County, Washington, said Northerly line being particularly described as follows:

BEGINNING at a point on the Southwesterly right-of-way line of State Route 119 having Washington State South Zone grid coordinates of X = 1,328,629.76 and & = 787,242.34 (NAD 27); thence Southwesterly, perpendicular to said Southwesterly right-of-way line, to the aforementioned 742 foot contour line, and the terminus of the herein described line. This description is based on the Washington Coordinate System South Zone Grid (NAD 27) per survey for the plat of Lake Cushman No. 1, Volume 6 of Plats, pages 60 to 63, both inclusive, records of Mason County, Washington.

ALSO, EXCEPTING therefrom all those portions thereof, if any, “to which Lake Cushman Company has granted a leasehold estate interest, whether recorded with the Office of the Mason County Auditor or not,” as set forth in instrument recorded December 28, 1990, Auditor's File No. 520415.

Said land being also known and described as the resulting Parcel 1 of Boundary Line Adjustment No. 14-18, recorded June 4, 2014, Auditor's File Nos. 2025533 and 2025534.

Parcel Numbers 42320 00 60000 and 42329 00 60000.

Situate in Mason County, Washington.

Containing 501 acres, more or less.

The above described lands contain a total of 581.96 acres, more or less, which are subject to all valid rights, reservations, rights-of-way, and easements of record.

The proclamation does not affect title to the lands described above, nor does it affect any valid existing easements for public roads, highways, public utilities, railroads and pipelines, or any other valid easements or rights-of-way or reservations of record.

Authority: 25 U.S.C. 5110.

Dated: October 12, 2018.
Tara Sweeney,
Assistant Secretary—Indian Affairs.

[FR Doc. 2018-24176 Filed 11-2-18; 8:45 am]

BILLING CODE 4337-15-P